DEPARTMENT OF THE TREASURY

Internal Revenue Service

Open Meeting of the Ad Hoc Issue Committee of the Taxpayer Advocacy Panel

AGENCY: Internal Revenue Service (IRS), Treasury.

ACTION: Notice; Correction.

SUMMARY: This document contains a correction to a notice on an open meeting of the Ad Hoc Issue Committee of the Taxpayer Advocacy Panel being conducted (via teleconference), which was published in the Federal Register on Tuesday, April, 15, 2003 (68 FR 18331).

FOR FURTHER INFORMATION CONTACT: Anne Gruber at 1-888-912-1227, or 206-220-6095.

Need for Correction

As published, this notice of an Open Meeting of the ad hoc issue committee of the taxpayer advocacy panel contains errors which may prove to be misleading and are in need of clarification.

Correction of Publication

Accordingly, the publication of the notice of an open meeting of the ad hoc issue committee of the taxpayer advocacy panel which is the subject of FR Doc. 03-9220 is corrected as follows:

1. On page 18331, column 3, under the caption DATES, the language “The meeting will be held Monday, May 5, 2003.” is corrected to read “The meeting will be held on Tuesday, May 13, 2003.”

2. On page 18331, column 3, under the caption SUPPLEMENTARY INFORMATION, lines 7 and 8, the language “Monday, May 5, 2003” is corrected to read “Tuesday, May 13, 2003.”

Cynthia Grigsby,
Chief, Regulations Unit, Associate Chief Counsel, (Procedure and Administration).

[FR Doc. 03-11360 Filed 5-2-03; 3:55 pm]

BILLING CODE 4830-01-P